DEPARTMENT OF AGRICULTURE

Forest Service

Beaverhead-Deerlodge National Forest; Montana; Supplemental EIS for the Beaverhead-Deerlodge National Forest Land and Resource Management Plan To Comply With District of Montana Court Order

AGENCY: Forest Service, USDA.

ACTION: Notice of intent to prepare an environmental impact statement.

SUMMARY: The Beaverhead-Deerlodge National Forest will prepare a Supplemental Environmental Impact Statement (SEIS) to the 2009 Beaverhead-Deerlodge National Forest Revised Land and Resource Management Plan (Forest Plan) environmental analysis in response to an August 27, 2015 Order from the U.S. District Court for the District of Montana. The Court directed the Forest Service to “properly disclose the information underlying its analysis of snowmobile impacts on big game wildlife” and “adequately appl[y] the minimization criteria in the [2005 Travel Management Rule].”

DATES: Under 40 CFR 1502.9(c)(4), there is no formal scoping period for this proposed action. The Draft SEIS is expected to be published in November 2015, which will then begin, in accordance with 36 CFR 219.16(a)(2), a 90-day public comment period on the Draft SEIS.

FOR FURTHER INFORMATION CONTACT: Jan Bowey, Beaverhead-Deerlodge National Forest, 125 Mill Street, Sheridan, MT 59749 (406) 842-5432. Individuals who use telecommunication devices for the deaf (TDD) may call the Federal Information Relay Service (FIRS) at 800-877-8339 between 8 a.m. and 8 p.m., Eastern Time, Monday through Friday.

SUPPLEMENTARY INFORMATION: The 2009 Forest Plan provides management direction for activities on the Beaverhead-Deerlodge National Forest for the next 10 to 15 years, including direction on eight topics (vegetation, wildlife, aquatic resources, recreation and travel management, fire management, livestock grazing, timber and recommended wilderness).

In 2010, WildEarth Guardians, Friends of the Bitterroot, Inc., and Montanans for Quiet Recreation, Inc., filed a complaint in U.S. District Court for the District of Montana (Case 9:10-cv-00104-DWM) alleging inadequate analysis of the “site-specific impacts of snowmobile use on big game winter habitat and conflicting recreational uses” when developing the Forest Plan, failure “to apply certain criteria [referred to as the minimization criteria] when designating areas open to snowmobile use” and that Subpart C of the 2005 Travel Management Rule concerning over-snow vehicles was invalid. In its June 22, 2015 Opinion (WildEarth Guardians et al. v. Montana Snowmobile Ass'n, 790 F.3d 920 (9th Cir. 2015)), the U.S. Court of Appeals for the Ninth Circuit found the Forest Service provided sufficient information to establish that it took a “hard look” at the impacts of snowmobile use on non-motorized recreational uses and sufficiently analyzed these conflicts. Further, the U.S. Court of Appeals found that plaintiffs' challenge to the Subpart C exemption in the Travel Management Rule was not ripe for review.

However, in the same opinion, the U.S. Court of Appeals held that the Forest Service did not provide the public adequate access to information about the impact of snowmobiles on big game wildlife and habitat and did not allow the public to play an appropriate role in the decision-making process. The U.S. Court of Appeals also found the Forest Service did not adequately apply the minimization criteria found in the Travel Management Rule. The matter was remanded to the U.S. District Court for the District of Montana.

In an August 27, 2015 Order, the U.S. District Court for the District of Montana ordered the Forest Service to “properly disclose the information underlying its analysis of snowmobile impacts on big game wildlife” and “adequately appl[y] the minimization criteria in the [2005 Travel Managment Rule].” The SEIS will disclose information underlying its analysis of snowmobile impacts on big game wildlife and apply the minimization criteria to areas on the Beaverhead-Deerlodge National Forest open to over-snow vehicle use during the winter recreation season (December 2 through May 15).

A Draft SEIS is expected to be available for public review and comment in November 2015. The comment period for the Draft SEIS will be 90 days from the date the Notice of Availability is published in the Federal Register 36 CFR 219.16(a)(2).

Dated: September 4, 2015.
Melany Glossa,
Forest Supervisor.

[FR Doc. 2015-22890 Filed 9-10-15; 8:45 am]

BILLING CODE 3410-11-P